DEPARTMENT OF TRANSPORTATION

Federal Aviation Administration

[Docket No. FAA-2020-1056]

Agency Information Collection Activities: Requests for Comments; Clearance of a New Approval of Information Collection: Unmanned Aircraft Systems (UAS) Market Survey

AGENCY: Federal Aviation Administration (FAA), DOT.

ACTION: Notice and request for comments.

SUMMARY: In accordance with the Paperwork Reduction Act of 1995, FAA invites public comments about our intention to request the Office of Management and Budget (OMB) approval for a new information collection. The collection involves an electronic distribution of a survey to gather information on current practices for pilots of unmanned aircraft systems (UAS). The target information to be gathered is the common fatigue-related practices, and the minimum knowledge, skills, abilities (KSAs), testing, and staffing procedures required for operating UAS. The information to be collected will be used to inform future rulemaking and the development of supporting guidance. The information is necessary because the existing regulatory framework, to include the certification of airmen, was not designed with remote pilots in mind. To broadly integrate UAS and remote pilots into the National Airspace System, further rulemaking will be required to address remote pilot certification for air carrier operations and flight and duty time periods applicable to remote pilot air carrier operations.

DATES: Written comments should be submitted by January 19, 2021.

ADDRESSES: Please send written comments:

By Electronic Docket: https://www.regulations.gov (Enter docket number into search field).

By mail: Kevin Williams, Ph.D., Bldg. 13, Rm. 250D, 6500 S MacArthur Blvd., Oklahoma City, OK 73125.

By fax: (405) 954-4852.

FOR FURTHER INFORMATION CONTACT: Ashley Awwad by email at: ashley.awwad@faa.gov; phone: (816) 786-5716.

SUPPLEMENTARY INFORMATION:

Public Comments Invited: You are asked to comment on any aspect of this information collection, including: (a) Whether the proposed collection of information is necessary for FAA's performance; (b) the accuracy of the estimated burden; (c) ways for FAA to enhance the quality, utility and clarity of the information collection; and (d) ways that the burden could be minimized without reducing the quality of the collected information. The agency will summarize and/or include your comments in the request for OMB's clearance of this information collection.

OMB Control Number: 2120-XXXX.

Title: Unmanned Aircraft Systems (UAS) Market Survey.

Form Numbers: List all forms.

Type of Review: New information collection.

Background: The FAA mission and vision are to provide the safest, most efficient aerospace system in the world as new users and technologies integrate into the system. Currently, unmanned aircraft systems (UAS) operations are expanding beyond 14 Code of Federal Regulations (CFR) part 107 via waiver and exemption. To broadly integrate these expanded operations, to include air carrier operations, further rulemaking will be necessary. To support revisions to current regulations and the development of new regulations that will support integration, the FAA plans to survey experts in industry and academia on UAS. The survey seeks to collect data from industry leaders on the common fatigue-related practices for the operation of UAS and the minimum knowledge, skills, abilities (KSAs), testing, and staffing procedures required for operating UAS.

Respondents: 180 respondents.

Frequency: One-time collection.

Estimated Average Burden per Response: 45-minute burden per response.

Estimated Total Annual Burden: 135 hours, total burden.

Issued in Oklahoma City, Oklahoma, on November 11, 2020.
Ashley Awwad,
Management & Program Analyst, Civil Aerospace Medical Institute (CAMI), Flight Deck Human Factors Research Lab, AAM-510.

[FR Doc. 2020-25260 Filed 11-16-20; 8:45 am]

BILLING CODE 4910-13-P